DEPARTMENT OF STATE

[Public Notice 5182]

Termination of Statutory Debarment and Reinstatement of Eligibility To Apply for Export/Retransfer Authorizations Pursuant to Section 38(g)(4) of the Arms Export Control Act for Orbit/FR, Inc.

ACTION: Notice.

SUMMARY: Notice is hereby given that the Department of State has terminated the statutory debarment against Orbit/FR, Inc. pursuant to Section 38(g)(4) of the Arms Export Control Act (AECA) (22 U.S.C. 2778) and § 127.11 of the International Traffic in Arms Regulations (ITAR) (22 CFR Parts 120-130).

EFFECTIVE DATE: August 29, 2005.

FOR FURTHER INFORMATION CONTACT: David C. Trimble, Director, Office of Defense Trade Controls Compliance, Directorate of Defense Trade Controls, Bureau of Political-Military Affairs, Department of State (202) 663-2807.

SUPPLEMENTARY INFORMATION: Section 38(g)(4) of the AECA and Section 127.11 of the ITAR prohibit the issuance of export licenses or other approvals to a person, or any party to the export, who has been convicted of violating the AECA and certain other U.S. criminal statutes enumerated at section 38(g)(1)(A) of the AECA and § 120.27 of the ITAR. A person convicted of violating the AECA is also subject to statutory debarment under § 127.7 of the ITAR.

In March 2000, following entry of a guilty plea in November 1999, Orbit/FR was convicted of two counts of violating the AECA and the ITAR (U.S. District Court, Eastern District of Pennsylvania, Criminal Docket No. CR 99-560). Based on this conviction, Orbit/FR was statutorily debarred pursuant to Section 38(g)(4) of the AECA and § 127.7 of the ITAR and, thus, prohibited from participating directly or indirectly in exports of defense articles and defense services. Notice of debarment was published in the Federal Register (65 FR 13072, March 10, 2000).

Section 38(g)(4) of the AECA and § 127.11 of the ITAR permit termination of debarment after consultation with the other appropriate U.S. agencies and after a thorough review of the circumstances surrounding the conviction and a finding that appropriate steps have been taken to mitigate any law enforcement concerns. Orbit/FR has taken steps to address law enforcement concerns, including entering a Consent Agreement with the Department of State whereby Orbit/FR will pay civil penalties in cash and remedial compliance measures. The Department of State has determined that Orbit/FR has taken appropriate steps to address the causes of the violations and to mitigate any law enforcement concerns. Therefore, in accordance with Section 38(g)(4) of the AECA and § 127.11 of the ITAR, the debarment against Orbit/FR is rescinded, effective August 29, 2005. The effect of this termination is that Orbit/FR and its affiliates may participate without prejudice in the export of defense articles and defense services subject to certain provisions of the AECA, the ITAR and the Consent Agreement.

Dated: August 29, 2005.
Rose M. Likins,
Acting Assistant Secretary of State for Political-Military Affairs, Department of State.

[FR Doc. 05-17746 Filed 9-6-05; 8:45 am]

BILLING CODE 4710-25-P